NATIONAL SCIENCE FOUNDATION

Earth Scope Science and Education Advisory Committee; Notice of Meeting

In accordance with the Federal Advisory Committee Act (Public Law 92-463, as amended), the National Science Foundation announces the following meeting.

Name: EarthScope Science and Education Advisory Committee (#16638).

Dates/Time: 8:30 a.m.-5:30 p.m. Tuesday, November 16, 2004 (NSF); 8:30 a.m.-12 p.m. Wednesday, November 17, 2004 (EarthScope Office); 1 p.m.-5 p.m. Wednesday, November 17, 2004 (NSF).

Place: National Science Foundation, 4201 Wilson Boulevard, Arlington, VA 22230, Stafford I Building, Room 770; EarthScope Office, 1200 New York Avenue NW., Washington, DC.

Type of Meeting: Part Open (see agenda below).

Contact Person: Dr. Kaye Shedlock, Program Director, EarthScope Program, Division of Earth Sciences, Room 785, National Science Foundation, Arlington, VA, (703) 292-4693.

Minutes: May be obtained from the contact person listed above.

Purpose of Meeting: To carry out EarthScope proposal and management review, including program evaluation, GPRA assessments, and access to privileged materials; and to provide advice, recommendations, and oversight concerning EarthScope construction, operation, science and education support.

Agenda: Closed: November 16, 2004, 8:30 a.m.-5:30 p.m.—To review the EarthScope Project Execution Plan (PEP) covering funding decisions for personnel and subcontracts for the construction phase of EarthScope; proposal actions from the 2004 EarthScope Solicitation, including the discussion of proposals still under review.

Open: November 17, 2004, 8:30 a.m.-12 p.m.—To provide advice on the 2004 EarthScope Solicitation, education and outreach management structure, and revision of volcanic area instrumentation.

Closed: November 17, 2004, 1 p.m.-5:30 p.m.—continue discussions of EarthScope Project Execution Plan (PEP) covering funding decisions.

Reason For Closing: During the closed sessions, the committee will be reviewing proposal actions that may include privileged intellectual property or information confidential in nature, including personal information concerning individuals associated with the proposals. These matters are exempt under 5 U.S.C. 552b(c), (4) and (6) of the Government in the Sunshine Act.

Dated: October 19, 2004.
Susanne Bolton,
Committee Management Officer.

[FR Doc. 04-23817 Filed 10-25-04; 8:45 am]

BILLING CODE 7555-01-M